DEPARTMENT OF ENERGY

Federal Energy Regulatory Commission

Combined Notice of Filings #1

Take notice that the Commission received the following electric corporate filings:

Docket Numbers: EC20-88-000.

Applicants: Tonopah Solar Energy, LLC.

Description: Supplement to August 12, 2020 Application for Authorization Under Section 203 of the Federal Power Act, et al. of Tonopah Solar Energy, LLC.

Filed Date: 8/21/20.

Accession Number: 20200821-5234.

Comments Due: 5 p.m. ET 9/2/20.

Take notice that the Commission received the following electric rate filings:

Docket Numbers: ER19-2858-003.

Applicants: East Coast Power Linden Holding, L.L.C.

Description: Compliance filing: Interim Rate Compliance Filing to be effective 9/1/2020.

Filed Date: 8/24/20.

Accession Number: 20200824-5133.

Comments Due: 5 p.m. ET 9/14/20.

Docket Numbers: ER20-1837-001.

Applicants: Duke Energy Carolinas, LLC.

Description: Compliance filing: Amendment to Joint OATT Order 864 Compliance Filing to be effective 1/27/2020.

Filed Date: 8/24/20.

Accession Number: 20200824-5000.

Comments Due: 5 p.m. ET 9/14/20.

Docket Numbers: ER20-2289-002.

Applicants: Southwest Power Pool, Inc.

Description: Tariff Amendment: 3704 Union Electric/Evergy Missouri West/MISO Int Agr-2nd Am to be effective 8/30/2020.

Filed Date: 8/24/20.

Accession Number: 20200824-5032.

Comments Due: 5 p.m. ET 9/14/20.

Docket Numbers: ER20-2414-000; ER20-2415-000.

Applicants: Moss Landing Energy Storage 1, LLC, Moss Landing Energy Storage 2, LLC.

Description: Supplement to July 14, 2020 Moss Landing Energy Storage 1, LLC, et al. tariff filings.

Filed Date: 8/17/20.

Accession Number: 20200817-5246.

Comments Due: 5 p.m. ET 8/27/20.

Docket Numbers: ER20-2717-000.

Applicants: Crossing Trails Wind Power Project LLC.

Description: Baseline eTariff Filing: Market-Based Rate Application to be effective 10/21/2020.

Filed Date: 8/21/20.

Accession Number: 20200821-5145.

Comments Due: 5 p.m. ET 9/11/20.

Docket Numbers: ER20-2718-000.

Applicants: PJM Interconnection, L.L.C.

Description: § 205(d) Rate Filing: Original ISA, Service Agreement No. 5732; Queue No. AC1-208 to be effective 7/22/2020.

Filed Date: 8/21/20.

Accession Number: 20200821-5148.

Comments Due: 5 p.m. ET 9/11/20.

Docket Numbers: ER20-2719-000.

Applicants: Ringer Hill Wind, LLC.

Description: § 205(d) Rate Filing: Reactive Power Rate Schedule to be effective 8/22/2020.

Filed Date: 8/21/20.

Accession Number: 20200821-5164.

Comments Due: 5 p.m. ET 9/11/20.

Docket Numbers: ER20-2721-000.

Applicants: Smoky Mountain Transmission LLC.

Description: § 205(d) Rate Filing: Filing of Interconnection and Transmission Service Agreement to be effective 10/24/2020.

Filed Date: 8/24/20.

Accession Number: 20200824-5150.

Comments Due: 5 p.m. ET 9/14/20.

Docket Numbers: ER20-2722-000.

Applicants: CO Buffalo Flats, LLC.

Description: Baseline eTariff Filing: CO Buffalo Flats, LLC Market-Based Rate Tariff to be effective 8/25/2020.

Filed Date: 8/24/20.

Accession Number: 20200824-5175.

Comments Due: 5 p.m. ET 9/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2020.
Nathaniel J. Davis, Sr.,
Deputy Secretary.

[FR Doc. 2020-18998 Filed 8-27-20; 8:45 am]

BILLING CODE 6717-01-P